COMMITTEE FOR PURCHASE FROM PEOPLE WHO ARE BLIND OR SEVERELY DISABLED

Procurement List: Proposed Deletions

AGENCY: Committee for Purchase From People Who Are Blind or Severely Disabled.

ACTION: Proposed deletions from the Procurement List.

SUMMARY: The Committee is proposing to delete products and a service from the Procurement List that were previously furnished by nonprofit agencies employing persons who are blind or have other severe disabilities.

DATES: Comments must be received on or before September 10, 2017.

ADDRESSES: Committee for Purchase From People Who Are Blind or Severely Disabled, 1401 S. Clark Street, Suite 715, Arlington, Virginia, 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and service are proposed for deletion from the Procurement List:

Products

NSN(s)—Product Name(s): 4820-00-052-4653—Valve, Ball

Mandatory Source(s) of Supply: The Opportunity Center Easter Seal Facility—The Ala ES Soc, Inc., Anniston, AL

Contracting Activity: Defense Logistics Agency Land and Maritime

NSN(s)—Product Name(s):

7045-01-599-5296—Privacy Filter, iPad

7530-01-515-7902—Paper, Printer, Ink Jet, Photo Quality, Double Side, 26 lb., Letter, 94 Bright White

Mandatory Source(s) of Supply: Wiscraft, Inc., Milwaukee, WI

Contracting Activity: General Services Administration, New York, NY

NSN(s)—Product Name(s):

7520-01-648-3552—Pen, Biobased, Gel Stick, Cushion Grip, Medium Point, Blue

7520-01-648-3553—Pen, Biobased, Gel Stick, Cushion Grip, Medium Point, Black

7520-01-648-3554—Pen, Biobased, Gel Stick, Cushion Grip, Medium Point, Red

Mandatory Source(s) of Supply: Alphapointe, Kansas City, MO

Contracting Activity: General Services Administration, New York, NY

Service

Service Type: Janitorial/Custodial Service

Mandatory for: Pennington Memorial U.S. Army Reserve Center: 2164 Harding Highway East, Marion, OH

Mandatory Source(s) of Supply: MARCA Industries, Inc., Marion, OH

Contracting Activity: DEPT OF THE ARMY, W6QM MICC FT MCCOY (RC)

Patricia Briscoe,
Deputy Director, Business Operations (Pricing and Information Management).

[FR Doc. 2017-17000 Filed 8-10-17; 8:45 am]

BILLING CODE 6353-01-P